DEPARTMENT OF COMMERCE

National Institute of Standards and Technology

[Docket No.: 140311231-4231-01]

Draft NIST Framework and Roadmap for Smart Grid Interoperability Standards, Release 3.0

AGENCY: National Institute of Standards and Technology, Department of Commerce.

ACTION: Notice; request for comments.

SUMMARY: The National Institute of Standards and Technology (NIST) seeks comments on the draft NIST Framework and Roadmap for Smart Grid Interoperability Standards, Release 3.0. This new document builds on two previously released Frameworks and Roadmaps, and incorporates advances in smart grid infrastructure, such as widespread deployment of wireless-communication power meters, the availability of customer energy usage data through the Green Button initiative, and remote sensing for determining real-time transmission and distribution status. Release 3.0 also includes protocols for electric vehicle charging. The entire draft version of the draft NIST Framework and Roadmap for Smart Grid Interoperability Standards, Release 3.0, is available online at: http://www.nist.gov/smartgrid/framework3.cfm.

DATES: Comments must be received on or before 5:00 p.m. Eastern Time on May 30, 2014.

ADDRESSES: Written comments may be sent to the Cyber Physical Systems and Smart Grid Program Office, National Institute of Standards and Technology, 100 Bureau Drive, Mail Stop 8200, Gaithersburg, MD 20899-8200 or by email at nistsgfwcmts@nist.gov.

FOR FURTHER INFORMATION CONTACT: Dr. Chris L. Greer, Director, Cyber Physical Systems and Smart Grid Program Office, and National Coordinator for Smart Grid Interoperability, National Institute of Standards and Technology, 100 Bureau Drive, Mail Stop 8200, Gaithersburg, MD 20899-8200; telephone 301-975-5987, fax 301-948-5668; or via email at nistsgfwcmts@nist.gov.

SUPPLEMENTARY INFORMATION:

Section 1305 of the Energy Independence and Security Act (EISA) of 2007 (Pub. L. 110-140) directs NIST “to coordinate the development of a framework that includes protocols and model standards for information management to achieve interoperability of smart grid devices and systems.”

To meet these statutory goals, in January 2010, NIST published the NIST Framework and Roadmap for Smart Grid Interoperability Standards, Release 1.0 (Release 1.0), and in February 2012, NIST published the NIST Framework and Roadmap for Smart Grid Interoperability Standards, Release 2.0 (Release 2.0), which updated the material discussed in Release 1.0. The Framework document discusses the NIST vision for an advanced smart grid as well as a high-level overview of smart grid architecture, cybersecurity, and testing and certification considerations. In addition, there is a discussion of the Smart Grid Interoperability Panel (SGIP) which is playing a key role in the development of interoperability standards.

NIST now announces the publication of the draft NIST Framework and Roadmap for Smart Grid Interoperability Standards, Release 3.0 (Release 3.0 Draft) for public review and comment. The entire draft version of Release 3.0 Draft is available online at: http://www.nist.gov/smartgrid/framework3.cfm.

Release 3.0 Draft builds upon the work in previous releases with an update on the progress since Release 2.0; a description of the Smart Grid Interoperability Panel (SGIP); updated architecture, cybersecurity, and testing and certification chapters; and a new chapter on cross-cutting issues and future directions.

Since the release of the last edition of the NIST Framework and Roadmap for Smart Grid Interoperability Standards (Release 2.0), advances in smart grid infrastructure have been implemented. Examples include the widespread deployment of wireless-communication power meters, the availability of customer energy usage data through the Green Button initiative, remote sensing for determining real-time transmission and distribution status, and protocols for electric vehicle charging, supported by standards development across the entire smart grid arena. This release updates NIST's ongoing efforts to facilitate and coordinate smart grid interoperability standards development and smart grid-related measurement science and technology, including the evolving and continuing NIST relationship with the SGIP.

Request for comments:

NIST seeks comments on the draft NIST Framework and Roadmap for Smart Grid Interoperability Standards, Release 3.0. In particular, the agency requests that comments be categorized as (1) technical; (2) editorial; or (3) general. If a comment is not a general comment, please identify the relevant page, line number, and section that is addressed by the comment. NIST will also accept proposed solutions along with the comments. Comments should be submitted in accordance with instructions in the DATES and ADDRESSES sections of this notice.

Dated: April 9, 2014.
Kevin A. Kimball,
Chief of Staff.

[FR Doc. 2014-08513 Filed 4-14-14; 8:45 am]

BILLING CODE 3510-13-P